FEDERAL COMMUNICATIONS COMMISSION

[DA 04-260]

Petitions for Reconsideration and Clarification of Action in Rulemaking Proceedings

AGENCY: Federal Communications Commission.

ACTION: Notice of extension of time.

SUMMARY: The Commission has extended the deadline to file oppositions to the Petitions for Reconsideration and Clarification filed in Implementation of Section 304 of the Telecommunications Act of 1996, Commercial Availability of Navigation Devices and Compatibility Between Cable Systems and Consumer Electronics Equipment, CS Docket No. 97-80 and PP Docket No. 00-67 and Digital Broadcast Content Protection, MB Docket No. 02-230 to March 10, 2004.

DATES: Oppositions due March 10, 2004; replies to an opposition must be filed within 10 days after the time for filing oppositions have expired.

FOR FURTHER INFORMATION CONTACT: Susan Mort, (202) 418-1043.

SUPPLEMENTARY INFORMATION: By a document previously published in the Federal Register, 69 FR 3361, January 23, 2004, the Commission established February 9, 2004 as the deadline to file oppositions to the Petitions for Reconsideration and Clarification filed in Implementation of Section 304 of the Telecommunications Act of 1996, Commercial Availability of Navigation Devices and Compatibility Between Cable Systems and Consumer Electronics Equipment, CS Docket No. 97-80 and PP Docket No. 00-67 and Digital Broadcast Content Protection, MB Docket No. 02-230. By Order, DA 04-260, February 2, 2004, the Commission has extended this deadline to March 10, 2004.

Federal Communications Commission.
William Johnson,
Deputy Chief, Media Bureau.

[FR Doc. 04-2731 Filed 2-6-04; 8:45 am]

BILLING CODE 6712-01-P